DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; 67 FR 46519, as last amended Wednesday, June 11, 2008; 73 FR 33099). This Order of Succession supersedes the Order of Succession for the Administrator, HRSA, published at FR 73 33099, June 11, 2008.

This notice deletes the Chief Financial Officer from the order of succession and adds the Chief Operating Officer to HRSA's hierarchy affecting the order of succession; this notice also changes the name of the Office of Performance Review to the Office of Regional Operations.

Section R-30, Order of Succession

During the absence or disability of the Administrator, or in the event of a vacancy in the office, the officials designated below shall act as Administrator in the order in which they are listed:

1. Deputy Administrator;

2. Senior Advisor to the Administrator;

3. Chief Operating Officer;

4. Associate Administrator, Bureau of Primary Health Care;

5. Associate Administrator, Bureau of Health Professions;

6. Associate Administrator, HIV/AIDS Bureau;

7. Associate Administrator, Maternal and Child Health Bureau;

8. Associate Administrator, Bureau of Clinician Recruitment and Service;

9. Associate Administrator, Healthcare Systems Bureau;

10. Associate Administrator, Office of Regional Operations; and

11. HRSA Regional Division Directors in the order in which they have received their permanent appointment as such.

Exceptions

(a) No official listed in this section who is serving in acting or temporary capacity shall, by virtue of so serving, act as Administrator pursuant to this section.

(b) Notwithstanding the provisions of this section, during a planned period of absence, the Administrator retains the discretion to specify a different order of succession.

Section R-40, Delegations of Authority

All delegations of authority and re-delegations of authority made to HRSA officials that were in effect immediately prior to this action, and that are consistent with this action, shall continue in effect pending further re-delegation, provided they are consistent with this action.

This document is effective upon date of signature.

Dated: September 24, 2009.
Mary K. Wakefield,
Administrator.

[FR Doc. E9-23570 Filed 9-29-09; 8:45 am]

BILLING CODE 4165-15-P